DEPARTMENT OF COMMERCE

Patent and Trademark Office

37 CFR Part 2

[Docket No. 2003-T-024]

RIN 0651-AB68

Reorganization of Correspondence and Other General Provisions

AGENCY: United States Patent and Trademark Office, Commerce.

ACTION: Final rule; correction.

SUMMARY: The United States Patent and Trademark Office (“Office”) published in the Federal Register of August 13, 2003 (68 FR 48286), a final rule amending its rules to separate the provisions for patent matters and trademark matters with respect to filing correspondence, requesting copies of documents, payment of fees, and general information. This document corrects a typographical error in the final rule.

EFFECTIVE DATE: October 1, 2003.

FOR FURTHER INFORMATION CONTACT: Mary Hannon, Office of the Commissioner for Trademarks, by telephone at (703) 308-8910, ext. 137; by e-mail to mary.hannon@uspto.gov; by facsimile transmission addressed to her at (703) 872-9280; or by mail marked to her attention and addressed to Commissioner for Trademarks, 2900 Crystal Drive, Arlington, Virginia 22202-3514.

SUPPLEMENTARY INFORMATION: The United States Patent and Trademark Office (“Office”) published in the Federal Register of August 13, 2003 (68 FR 48286), a final rule amending its rules to separate the provisions for patent matters and trademark matters with respect to filing correspondence, requesting copies of documents, payment of fees, and general information. This document corrects a typographical error in the final rule.

In FR Doc. 03-20489, published on August 13, 2003 (68 FR 48286), make the following correction:

§ 2.198 Filing of correspondence by “Express Mail.”

1. On page 48291, in the first column, in § 2.198, line 2, correct “(a)(1)(i) and (ii)” to read “(a)(1)(i) through (vii).”

Dated: September 24, 2003.
Lynne G. Beresford,
Deputy Commissioner for Trademark Examination Policy.

[FR Doc. 03-24812 Filed 9-30-03; 8:45 am]

BILLING CODE 3510-16-P